DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: ACCSH will hold a meeting on December 5-6, 2002, in Washington, DC. This meeting is open to the public.

Time and Date: ACCSH will meet from 8 a.m. to 4:30 p.m., Thursday, December 5, and from 8:30 a.m. to noon, Friday, December 6. See SUPPLEMENTARY INFORMATION section for meeting times and dates of ACCSH work groups.

Place: The ACCSH meeting will be held in Rooms N-3437 A-C, Frances Perkins Building, 200 Constitution Avenue, NW., Washington, DC. See SUPPLEMENTARY INFORMATION section for room locations in the Frances Perkins Building for ACCSH work group meetings.

FOR FURTHER INFORMATION CONTACT: For general information about ACCSH and ACCSH meetings: Jim Boom, OSHA, Directorate of Construction, Room N-3476, 200 Constitution Avenue, NW., Washington, DC 20210; telephone (202) 693-1839. For information about submission of comments, requests to speak, and special accommodations for the meeting: Veneta Chatmon, OSHA, Office of Public Affairs, Room N-3647, 200 Constitution Avenue, NW., Washington, DC 20210; telephone (202) 693-1999. Electronic copies of this Federal Register notice, as well as information about ACCSH work groups and other relevant documents, are available at OSHA's Webpage on the Internet at http://www.OSHA.gov.

SUPPLEMENTARY INFORMATION: ACCSH will meet December 5-6, 2002, in Washington, DC. This meeting is open to the public. The agenda for this meeting includes:

Thursday, December 5, 2002

• Directorate of Construction—Update

• Partnerships, Alliances, Agreements

• Remarks—Assistant Secretary Henshaw

• Subpart V—Power Transmission and Distribution

• Subpart N—Crane Workgroup Report

• Negotiated Rulemaking—Subpart N—Cranes and Derricks

• Manual for Uniform Traffic Control Devices (MUTCD)

• Hearing Conservation

• Silica

• Proposed Assigned Protection Factor (APF)—Rulemaking

Friday, December 6, 2002

• Subpart R—Steel Erection

• Highway Work Zone Safety

All ACCSH meetings and those of its work groups are open to the public. An official record of the meeting will be available for public inspection at the OSHA Docket Office, Room N-2625, at the address above; telephone (202) 693-2350. Individuals needing special accommodation should contact Veneta Chatmon no later than November 29, at the address above.

Interested parties may submit written data, views or comments, preferably with 20 copies, to Veneta Chatmon at the address above. OSHA will provide submissions received prior to the meeting to ACCSH members and will include all submissions in the record of the meeting.

Attendees may also request to make an oral presentation by notifying Veneta Chatmon no later than November 25 at the address above. The request must state the amount of time desired, the interest represented by the presenter (e.g., the names of the business, trade association, government Agency) if any, and a brief outline of the presentation. The chair of ACCSH may grant the request at his discretion and as time permits.

The following ACCSH work groups will meet in the Francis Perkins Building:

• Subpart N—Cranes—8 a.m. to 5 p.m., Tuesday, December 3, and 8 a.m. to 5 p.m., Wednesday, December 4, in Room N-3437 A&B.

For further information on meetings of ACCSH work groups, please contact Jim Boom at the address above or look on OSHA's webpage at http://www.osha.gov.

Authority: John L. Henshaw, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 333), and Secretary of Labor's Order No. 5-2002 (67 FR 65008).

Signed in Washington, DC, on this 7th day of November, 2002.
John L. Henshaw,
Assistant Secretary of Labor.

[FR Doc. 02-28931 Filed 11-13-02; 8:45 am]

BILLING CODE 4510-26-P